DEPARTMENT OF COMMERCE

National Oceanic and Atmospheric Administration

[RTID 0648-XV163]

Pacific Fishery Management Council; Public Meeting

AGENCY: National Marine Fisheries Service (NMFS), National Oceanic and Atmospheric Administration (NOAA), Commerce.

ACTION: Notice of public meeting.

SUMMARY: The Pacific Fishery Management Council (Pacific Council) will convene a meeting of its Coastal Pelagic Species Management Team (CPSMT) to discuss issues related to the management of coastal pelagic species (CPS) on the U.S. West Coast. This meeting is open to the public.

DATES: The meeting will be held Tuesday, February 4 through Thursday, February 6, 2020. The meeting will begin at 8:30 a.m. each day and will continue until 5 p.m., or until business for the day has been completed.

ADDRESSES: The meeting will be held in the Buzzelli/Loeb Room in the Scripps Seaside Forum at Scripps Institution of Oceanography, 8622 Kennel Way, La Jolla, CA 92037.

Council address: Pacific Fishery Management Council, 7700 NE Ambassador Place, Suite 101, Portland, OR 97220-1384.

FOR FURTHER INFORMATION CONTACT: Kerry Griffin, Pacific Council; telephone: (503) 820-2409.

SUPPLEMENTARY INFORMATION: The primary purposes of the meeting are to develop a draft rebuilding plan for the Pacific sardine, develop draft CPS Fishery Management Plan amendatory language, and consider a schedule and timeline for further evaluation of management options for the central subpopulation of northern anchovy, all for Pacific Council consideration at future meetings. Other CPS, administrative, or ecosystem topics may be discussed as well.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kerry Griffin (kerry.griffin@noaa.gov; (503) 820-2409) at least 10 days prior to the meeting date.

Authority: 16 U.S.C. 1801 et seq.

Dated: December 23, 2019.
Tracey L. Thompson,
Acting Deputy Director, Office of Sustainable Fisheries, National Marine Fisheries Service.

[FR Doc. 2019-28200 Filed 12-30-19; 8:45 am]

BILLING CODE 3510-22-P